DEPARTMENT OF THE INTERIOR

Bureau of Land Management

[LLUTY02000.14300000.FR0000.241A.00; UTU-88037]

Notice of Realty Action; Recreation and Public Purposes Act Classification for Conveyance of Public Lands in San Juan County, UT

AGENCY: Bureau of Land Management, Interior.

ACTION: Notice of realty action.

SUMMARY: The Bureau of Land Management (BLM) has examined and found suitable for classification for conveyance to San Juan County, under the provisions of the Recreation and Public Purposes (R&PP) Act, as amended, a 2.5 acre parcel of public land in San Juan County, Utah. San Juan County proposes to maintain a multi-purpose municipal building in Mexican Hat, Utah, to include fire and emergency services facilities, office space, equipment yard, weatherization services, and elections office.

DATES: Interested parties may submit written comments regarding this proposed classification for conveyance of public land until January 27, 2011.

ADDRESSES: Comments may be submitted to the Bureau of Land Management Monticello Field Office, 365 North Main, or P.O. Box 7, Monticello, Utah 84535.

FOR FURTHER INFORMATION CONTACT: Maxine Deeter, BLM Monticello Field Office, at 435-587-1522, or by e-mail to maxine_deeter@blm.gov.

SUPPLEMENTARY INFORMATION: The BLM has examined and found the following described public land suitable for classification for conveyance under the provisions of the R&PP Act, as amended (43 U.S.C. 869 et seq.), and 43 CFR 2740:

Salt Lake Meridian, Utah

T. 42 S., R. 19 E.,

Sec. 7, lot 47.

The area described contains 2.5 acres in San Juan County.

The classification is consistent with the Monticello Resource Management Plan, Lands and Realty Decisions LAR-3 and LAR-7, dated November 17, 2008, and is in the public interest. An environmental assessment has been prepared that analyzes the San Juan County application and proposed plans of development and management. A conveyance would be subject to the provisions of the R&PP Act, applicable regulations of the Secretary of the Interior, and will contain the following reservations to the United States:

1. A right-of-way thereon for ditches or canals constructed by the authority of the United States, Act of August 30, 1890 (43 U.S.C. 945);

2. All minerals, together with the right to prospect for, mine, and remove such deposits from the same under applicable law and such regulations as the Secretary of the Interior may prescribe.

3. An appropriate indemnification clause protecting the United States from claims arising out of the patentee's use, occupancy, or operations on patented lands.

A conveyance would also be subject to valid existing rights.

Upon publication of this notice in the Federal Register, the land described above is segregated from all other forms of appropriation under the public land laws, including the general mining laws, except for conveyance under the R&PP Act and leasing under the mineral leasing laws.

Classification Comments: Interested parties may submit comments involving the suitability of the land for a public municipal building. Comments on the classification are restricted to whether the land is physically suited for the proposal, whether the use will maximize the future use or uses of the land, whether the use is consistent with local planning and zoning, or whether the use is consistent with state and Federal programs.

Application Comments: Interested parties may submit comments regarding the specific use proposed in the application, whether the BLM followed proper administrative procedures in reaching the decision, or any other factors directly related to the suitability of the land for a public municipal building.

Before including your address, phone number, e-mail address, or other personal identifying information in your comment, you should be aware that your entire comment—including your personal identifying information—may be made publicly available at any time. While you can ask us in your comment to withhold your personal identifying information from public review, we cannot guarantee that we will be able to do so.

The BLM State Director will review any adverse comments. In the absence of any adverse comments, the classification will become effective February 11, 2011. The lands will not be available for conveyance until after the classification becomes effective.

Authority: 43 CFR 2741.5(h).

Juan Palma,
State Director.

[FR Doc. 2010-31206 Filed 12-10-10; 8:45 am]

BILLING CODE 4310-DQ-P